DEPARTMENT OF JUSTICE

Notice of Lodging of Consent Decree, Under the Comprehensive Environmental Response, Compensation, and Liability Act of 1980

Notice is hereby given that on January 7, 2008, a proposed Settlement Agreement in In Re: Bush Industries, Inc., No. 09-12295 was lodged with the United States Bankruptcy Court for the Western District of New York.

In this action the United States sought reimbursement of response costs incurred by EPA for response actions at the Little Valley Superfund Site (“Site”) in Cattaraugus County, New York, pursuant to sections 106 and 107 of the Comprehensive Environmental, Response, Compensation, and Liability Act, 42 U.S.C. 9606 and 9607 (“CERCLA”). The Settlement Agreement provides that the United States will have general unsecured claim in the amount of $1,533,000.

The Department of Justice will receive for a period of thirty (30) days from the date of this publication comments relating to the Settlement Agreement. Comments should be addressed to the Assistant Attorney General, Environment and Natural Resources Division, and either e-mailed to pubcomment-ees.enrd@usdoj.gov or mailed to P.O. Box 7611, U.S. Department of Justice, Washington, DC 20044-7611, and should refer to In re: Bush Industries, Inc., D.J. Ref. 90-11-2-06763/2.

The Settlement Agreement may be examined at the Office of the United States Attorney, 138 Delaware Avenue, Buffalo, NY, and at U.S. EPA Region 2, 290 Broadway, New York, NY 10078. During the public comment period, the Settlement Agreement may also be examined on the following Department of Justice Web site, http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $2.00 (25 cents per page reproduction cost) payable to the U.S. Treasury or, if by e-mail or fax, forward a check in that amount to the Consent Decree Library at the stated address.

Ronald G. Gluck,
Assistant Chief, Environmental Enforcement Section, Environment and Natural Resources Division.

[FR Doc. 08-123 Filed 1-16-08; 8:45 am]

BILLING CODE 4410-15-M